DEPARTMENT OF ENERGY

Federal Energy Regulatory Commission

Notice of Intent To File an Application for a New License

August 10, 2000.

a. Type of Filing: Notice of Intent to File an Application for a New License.

b. Project No.: 2698.

c. Date Filed: July 25, 2000.

d. Submitted By: Nantahala Power and Light—current licensee.

e. Name of Project: East Fork Hydroelectric Project.

f. Location: On the East Fork of the Tuckasegee River in Jackson County, NC. The project does not utilize federal lands.

g. Filed Pursuant to: Section 15 of the Federal Power Act.

h. Licensee Contact: John C. Wishon, Nantahala Power and Light, 301 NP&L Loop, Franklin, NC 28734 (828) 369-4604.

i. FERC Contact: Steve Kartalia, steve.kartalia@ferc. fed.us, (202) 219-2942.

Effective date of current license: May 1, 1965.

Expiration date of current license: Jnauary 31, 2006,

Description of the Project: The project consists of the following three developments:

The Cedar Cliff Development consists of the following existing facilities: (1) A 590-foot-long, 173-foot-high earth and rockfill dam with two spillway sections; (2) a 121-acre reservoir at a normal water surface elevation of 2,330 feet USC & GS datum; (3) a 1,138-foot-long penstock; (4) a powerhouse containing a single generating unit with an installed capacity of 6,375, kW, and (5) other appurtenances.

The Bear Creek Development consists of the following existing facilities: (1) A 760-foot-long, 215-foot-high earth and rockfill dam with a gated spillway; (2) a 476-acre reservoir at a normal water surface elevation of 2,560 feet USC & GS datum; (3) a 1,494-foot-long penstock; (4) a powerhouse containing a single generating unit with an installed capacity of 9,000 kW; and (5) other appurtenances.

The Tennessee Creek Development consists or the following existing facilities: (1) The 385-foot-long, 140-foot-high earth and rockfill East Fork dam with a gated spillway; (2) a 225-foot-long, 21-foot-long, 21-foot-high saddle dam; (3) a 40-acre reservoir at a normal water surface elevation of 3,080 feet USC & GS datum; (4) the 810-foot-long, 174-foot-high earth and rockfill Wolf Creek dam with a gate spillway; (5) a 183-acre reservoir at a normal water surface elevation of 3,080 feet USC & GS datum; (6) a powerhouse containing a single generating unit with an installed capacity of 10,800 kW; (7) a 9.73-mile-long, 69 kV transmission line; and (8) other appurtenances.

m. Each application for a new license and any competing license applications must be filed with the Coommission at least 24 months prior to the expiration of the existing license. All applications for license for this project must be filed by January 31, 2004.

David P. Boergers,
Secretary.

[FR Doc. 00-20750 Filed 8-15-00; 8:45 am]

BILLING CODE 6717-01-M